OFFICE OF PERSONNEL MANAGEMENT

Proposed Collection; Comment Request for Revision of an Information Collection: RI 38-31

AGENCY: Office of Personnel Management.

ACTION: Notice.

SUMMARY: In accordance with the Paperwork Reduction Act of 1995 (Public Law 104-13, May 22, 1995), this notice announces that the Office of Personnel Management (OPM) intends to submit to the Office of Management and Budget (OMB) a request for revision of an information collection. RI 38-31, Request for Information About Your Missing Payment, is sent in response to a notification by an individual of the loss or non-receipt of a payment from the Civil Service Retirement and Disability Fund. The form requests the information needed to enable OPM to trace and or reissue payment. Missing payments may also be reported to OPM by a telephone call.

Approximately 8,000 missing payment requests for both Treasury checks and electronic funds transfers (EFT's) are processed each year; 500 RI 38-31 forms will be completed annually while 7,500 telephone calls are received at OPM. We estimate it takes approximately 10 minutes to complete the form for missing Treasury checks or to report the missing payment by telephone. Approximately 50 RI 38-31 forms are completed for missing EFT payments; we estimate it takes 30 minutes because financial institution information and signature(s) are required. The combined annual burden is 1,350 hours.

Comments are particularly invited on:

—Whether this collection of information is necessary for the proper performance of functions of the Office of Personnel Management, and whether it will have practical utility;

—Whether our estimate of the public burden of this collection is accurate and based on valid assumptions and methodology; and

—Ways in which we can minimize the burden of the collection of information on those who are to respond, through use of the appropriate technological collection techniques or other forms of information technology.

For copies of this proposal, contact Mary Beth Smith-Toomey on (202) 606-2150, or E-mail to mbtoomey@opm.gov.

DATES: Comments on this proposal should be received on or before February 26, 2001.

ADDRESSES: Send or deliver comments to—Ronald W. Melton, Chief, Operations Support Division, Retirement and Insurance Service, U.S. Office of Personnel Management, 1900 E Street, NW., Room 3349A, Washington, DC 20415-3540.

FOR INFORMATION REGARDING ADMINISTRATIVE COORDINATION—CONTACT: Donna G. Lease, Team Leader, Forms Analysis and Design, (202) 606-0623.

Janice R. Lachance,
Director, U.S. Office of Personnel Management.

[FR Doc. 00-33115 Filed 12-27-00; 8:45 am]

BILLING CODE 6325-01-M